DEPARTMENT OF LABOR

Office of Disability Employment Policy

[SGA 07-09]

National Technical Assistance Center on Transition and Employment for Youth With Disabilities; Solicitation for Cooperative Agreement

Announcement Type: New notice of Availability of Funds and Solicitation for Grant Application (SGA) for cooperative agreement.

Funding Opportunity Number: SGA 07-09.

Catalogue of Federal Domestic Assistance (CFDA) Number: 17.720.

DATES: Key Date: Applications must be received by June 25, 2007.

SUMMARY: The U.S. Department of Labor (“DOL” or “Department”), Office of Disability Employment Policy (“ODEP”'), announces the availability of up to $1.7 million to fund a cooperative agreement to establish the National Technical Assistance Center on Transition and Employment for Youth with Disabilities with a 24-month period of performance. In addition, this initiative may be funded for up to three (3) additional option years at approximately $1,000,000 per year, depending on performance, identified need and the availability of future funding.

Over the last 10 years, a number of federal and state efforts to improve access to transition planning and services to improve education, employment, and community living outcomes for youth with disabilities have emerged. As a result, there has been some improvement in indicators relevant to the successful transition of youth with disabilities, including increases in graduation rates, increases in enrollment in postsecondary education, and increases in the number of youth entering the workforce. While this progress is encouraging, education and employment outcomes for youth with disabilities continue to lag substantially behind that of their peers without disabilities.

To address this situation, ODEP is funding a national technical assistance center to build capacity within and across both generic and disability-specific youth service delivery systems to help youth with disabilities successfully transition from high school to post-secondary education and/or employment in high-demand career areas. Effectively addressing the complex and significant barriers to employment faced by youth with disabilities transitioning into the adult world requires the use of multiple strategies and the active involvement of many stakeholders, including Federal, State and local governments, non-governmental organizations, and employers.

This Center will conduct research, disseminate information, and provide technical assistance to a wide range of stakeholders on topics relevant to improving post-school outcomes for youth with disabilities including, but not limited to:

• Effective practices, such as the emerging use of individual learning or graduation plans, for aligning and improving the education and workforce development systems to better meet employer demand;

• Innovative service strategies which workforce development, and secondary and postsecondary programs and systems can utilize to better meet the needs of transitioning youth;

• Professional development strategies for practitioners who work with youth; and

• Effective models of multi-disciplinary interagency collaboration and systems coordination needed to support youth in achieving positive post-school outcomes through comprehensive service delivery consistent with the Guideposts for Success, see http://www.dol.gov/odep/categories/youth/. The Guideposts for Success serves as a conceptual framework on improving transition outcomes for youth with disabilities.

I. Funding Opportunity Description

1. Description and Purpose

ODEP will award one cooperative agreement to establish a national technical assistance and research center. The center will: (1) Conduct research to identify, validate and document effective practices and policies; (2) disseminate information; (3) provide technical assistance; (4) encourage collaboration; and (5) work with states and localities on multiple strategies for improving the post-school outcomes or youth with disabilities. The overall purpose of this effort is to build the capacity of workforce development, economic development, and educational service delivery systems and their partners to work together strategically to ensure that youth with disabilities graduate from high school and enter employment and/or further post-secondary education and training with the skills needed to meet employer demand in the 21st century workplace, and to maximize their ability to be self-sufficient and to live independently.

The Center's research related activities will improve systems capacity to provide comprehensive transition services utilizing research-based strategies consistent with the Guideposts for Success. It must include, but is not limited to, the following activities:

(a) Conducting an analysis of all states currently implementing individual learning/graduation planning strategies for all youth to identify practices and strategies that support positive outcomes or create barriers for youth with disabilities.

(b) Identifying effective practices for coordinating education, career preparation, youth development and leadership, health, and other employment-related support services that improve transition outcomes for youth with disabilities. The Center must consult with other appropriate technical assistance providers within the Departments of Labor, Education, Health and Human Services, and other Federal agencies in this effort.

(c) Assessing the impact of implementing a comprehensive professional development strategy on both the job retention of youth service practitioners and youth service outcomes.

(d) The identification of curricula, instructional approaches, programs, and policies that are potentially effective for improving both the academic and functional workplace skills of adolescents and young adults with disabilities.

The Center's technical assistance and dissemination activities must include, but are not limited to, the following:

• Assisting interested national, state and local entities in the creation of a professional development system for youth service practitioners;

• Promoting youth-centered planning and youth development and leadership opportunities;

• Producing reports and documents on trends, patterns, and legislation relating to secondary and post-secondary transition interventions, strategies, and supports and other pertinent topics as requested by ODEP;

• Preparing and disseminating reports and documents in publications including peer-reviewed journals;

• Providing information to educate relevant stakeholders, including state and local policymakers, educators, systems personnel, as well as youth and families, about changes in policy and practice needed in order to increase employment opportunities and wages for young people with disabilities;

• Providing information to educate employers and the general public about the abilities of youth with disabilities to work in a wide variety of occupations and about the use of accommodations;

• Providing technical assistance, training, and information that integrates evidence-based effective practices for improving transition results for young people with disabilities enrolled in Workforce Investment Act (WIA)-funded youth programs;

• Providing technical assistance, training, and information to increase understanding by youth service providers about disability related employment issues such as health care, transportation, work incentive provisions, benefits planning, housing, etc.;

• Providing technical assistance, training, and information to ODEP's current and future grantees. This includes serving as a repository and dissemination center for the materials and effective practices developed by ODEP grantees; and

• Creating and maintaining a user-friendly Web site with relevant information and documents in a form that meets a government or industry-recognized standard for accessibility.

The Center's collaboration activities must include, but are not limited to:

• Promoting high quality interagency collaboration and service coordination between and among Federal, State, and local agencies with a focus on identifying, developing, and implementing interagency service strategies that effectively maximize available resources; and

• Developing and maintaining relationships that encourage collaboration to foster integrated approaches to transition planning and services. Partners are not limited to, but may include the following entities:

(1) State departments of Labor, Health, Education, Vocational Rehabilitation and Economic Development, Governors' Committees on Employment of People with Disabilities, State Councils for Independent Living, Mental Health Agencies, Mental Retardation and Developmental Disability Councils, Temporary Assistance for Needy Families (TANF) Agencies;

(2) Local WIA youth services providers, Job Corps representatives, foster care and juvenile justice agencies, public housing, health and transportation authorities, local One-Stop centers, community and faith-based organizations, and disability organizations, such as Centers for Independent Living;

(3) Employers and their professional networks such as Business Leadership Networks (BLNs), Chambers of Commerce, and other employer trade association;

(4) National education and youth development and leadership organizations;

(5) Federal agencies including the Departments of Education, Transportation and Health and Human Services, The Social Security Administration, The Corporation for National and Community Service and other agencies that work to improve access to public accommodations, commercial facilities, information technology, telecommunications services, and housing; and

(6) Other Federal technical assistance projects that provide information about transition, postsecondary education, employment, and independent living issues for young people with disabilities.

Additionally the Center will work to ensure that youth with disabilities are thoughtfully included in the emerging practice of individual learning/graduation plans (ILPs) for all youth currently being implemented in at least 20 states by:

(1) Conducting research during its first 6 months to analyze existing policies and practices and the impact they have on youth with disabilities;

(2) Providing targeted technical assistance including professional development support and training to a minimum of three (3) competitively selected states currently implementing individual learning/graduation planning strategies to ensure that the policies being developed and the practices being implemented are responsive to and inclusive of the needs of youth with disabilities; and

(3) Spending at least 6 months conducting a follow up evaluation of the impact of the targeted technical assistance described above. A goal of the effort will be to document emerging effective practices and increase the capacity of other localities implementing ILPs.

A minimum of $600,000 is to be spent on the above three components of the work plan relating to individual learning/graduation plans. Staff time and project resources dedicated to provide technical assistance to ODEP-specified states will be negotiated with ODEP as part of the cooperative agreement within thirty (30) days of the date of the award.

The remainder of the funding that is provided is to be spent on carrying out the general technical assistance functions described previously.

2. Background

The Office of Disability Employment Policy (ODEP) provides national leadership by developing and influencing disability-related employment policies and practices. A five-year strategic plan guides ODEP in achieving its mission by identifying long-term strategic and outcome goals as well as shorter-term intermediate and performance goals. In addition to measuring agency performance, as required by the Government Performance and Results Act (GPRA), the strategic plan sets forth a road map for prioritizing the formulation and dissemination of innovative employment policies and practices to service delivery systems and employers.

ODEP's annual goal is to build knowledge and advance disability employment policy that affects and promotes systems change. The agency's long- and short-term goals focus efforts on initiatives that bring about this level of change. In short, ODEP develops policies and strategies that will:

• Enhance the capacity of service delivery systems to provide appropriate and effective services and supports to youth and adults with disabilities;

• Increase planning and coordination within service delivery systems to develop and improve systems, processes, and services;

• Improve individualization of services to better assist youth and adults with disabilities in seeking, obtaining, and retaining employment or self-employment;

• Increase employer access to supports and services to meet their employment needs;

• Increase the quality of competency-based training for service delivery systems;

• Increase the adoption of universal strategies for service provision; and

• Develop partnerships with and among critical stakeholders to effectively leverage available resources and facilitate implementation of practices and policies that increase employment and self-employment opportunities and the recruitment, retention, and promotion of youth and adults with disabilities.

Three measures inform ODEP of its annual progress in meeting its three goals under the Government Performance and Results Act: (1) The number of policy-related documents; (2) the number of formal agreements; and (3) the number of effective practices. These performance results support achievement of the following intermediate outcome goals: Accessible employment resources; coordinated programs, processes, and services; and adoption of effective practices.

Achievement of these intermediate outcome goals, in turn, supports achievement of the long-term service delivery systems outcome goals, which are marked by increases in these areas: Capacity of service delivery systems; planning and coordination within service delivery systems; and employer access to supports and services for recruitment, retention, and promotion.

On February 1, 2001, in announcing the New Freedom Initiative (NFI), President George W. Bush explicitly recognized that in today's global economy America must be able to draw on the talents and creativity of all its citizens and that people with disabilities represent valuable largely untapped human capital. The NFI represents an important step towards ensuring that all Americans have the opportunity to learn and develop skills, engage in productive work, and choose where to live and participate in community life.

Developing the talents, skills and capabilities of the workforce has always played an important part in our nation's economic strength. This is even more critical today because America is transitioning to a knowledge-based economy that places a premium on higher skills and education. Millions of new jobs have been created in industries that did not even exist a generation ago. In addition, two-thirds of the estimated 18 million new jobs that will be created over the next 10 years will be in occupations that require some kind of post-secondary education. Therefore, it is more imperative now than at any time ever before that young Americans, including those with disabilities, stay in school, get a high school diploma or GED, and have some kind of education and job training beyond high school.

The nature of what employers demand in the workplace of the 21st century is also changing. High school and college graduates must not only master basic academic skills, but in addition must master more advanced “applied skills” such as teamwork, critical thinking, and communication. According, however, to a recent survey of 461 employers conducted by the Conference Board, Corporate Voices for Working Families, the Partnership for 21st Century Skills, and the Society for Human Resources many new entrants to the workforce lack these important skills. These business leaders reported that while the three “R's” are still fundamental to every employee's ability to do the job, knowledge of applied skills is even more important. (Are They Really Ready to Work? Employers' Perspectives on the Basic Knowledge and Applied Skills of New Entrants to the 21st Century U.S. Workforce (2006)).

The need to improve education and employment outcomes of youth with disabilities has been recognized as a national priority over the past several years. The No Child Left Behind Act (NCLB), which was signed into law by President Bush in 2002, ushered in sweeping changes in the American educational system as it relates to students with disabilities because it requires that schools be held accountable for their educational progress to the same extent they are held accountable for the educational results of students without disabilities. Further, when the Individuals with Disabilities Education Act was reauthorized in 2004, it recognized the increasingly important relationship between education and employment. Thus, the transition planning requirements were expanded to include measurable postsecondary goals related to training, education, employment, and, where appropriate, independent living skills.

In addition, The White House Task Force Report on Disadvantaged Youth (December 2003), recommended that an interagency group be created to help facilitate interagency collaboration at the state and local levels for federally funded youth programs to develop innovative approaches, enhance the quality of services delivered, improve cost-effectiveness, and improve outcomes for the neediest youth. Over the past several years, in response to the Task Force Report, the Department of Labor has been collaborating with multiple Federal agencies to implement a coordinated shared Federal Youth Vision to more effectively and efficiently serve out-of-school and at-risk youth. The Shared Youth Vision Federal Partnership explicitly recognizes that youth with disabilities, along with high school drop-outs and those at risk of dropping out, court-involved youth or those at risk of involvement, youth in or aging out of foster care, children of incarcerated parents, and migrant, American Indian and Alaska Native youth, are included among our nation's neediest youth. In addition, the Vision partnership recognizes that these youth are an important part of the “supply pipeline” needed to fill job vacancies in the knowledge-based economy.

ODEP has also funded several systems change efforts which have focused on improving transition outcomes for youth with disabilities using the Guideposts for Success as a conceptual framework. The Guideposts, which include school-based preparatory experiences, career preparation and work-based learning experiences, youth development and leadership, connecting activities, and family involvement and supports, reflect key educational and career development interventions that research has indicated can make a positive difference in the lives of all youth, including youth with disabilities.

Federal and state efforts to improve transition policies and practices for youth with disabilities over the past decade have resulted in some positive gains including increases in graduation rates, enrollment in postsecondary education, and in the number of youth entering the workforce (Office of Special Education Programs, Data Analysis System (DANS); Newman, 2005; Cameto and Levine, 2005). For example, national data indicate that there has been some improvement in the overall graduation rate of students with disabilities in the United States. Between the 1995-1996 and 1999-2000 school years, the percentage of youth with disabilities graduating with regular diplomas, as reported by states, grew from 52.6% to 56.2%. During the same period, the percentage of students with disabilities reported as having dropped out of school declined from 34.1% to 29.4% (U.S. Department of Education, 2002).

Nonetheless, significant challenges remain. National studies and reports have shown that, compared to their non-disabled peers, students with disabilities are less likely to receive a regular high school diploma; drop out twice as often; and enroll in and complete postsecondary education programs at half the rate.

According to recent reports from the National Longitudinal Transition Study-2 (NLTS-2) (2005) (see http://www.nlts2.org/) (Wagner, Marder, et al., 2003; Wagner, Newman, et al., 2005), a study of a nationally representative sample of adolescents with disabilities, students' grade-level equivalent performance on standardized achievement tests was on average 3.6 years behind grade level in reading and mathematics. Among those individuals who were no longer in school, about 28 percent had dropped out prior to receiving a diploma, a rate nearly twice that of their peers without disabilities. In the first years after high school, individuals with disabilities were much less likely to attend postsecondary education than were individuals without disabilities. In addition, about 21 percent of youth with disabilities were not engaged in their community either through postsecondary education, job training, or work in the first years after high school.

In addition, up to two years after leaving high school, about 4 in 10 youth with disabilities are employed as compared to 6 in 10 same-age, out-of-school youth in the general population. (National Center for Education Statistics, 2000; NLTS-2) In addition, youth with disabilities are four times more likely to become involved in the juvenile justice system. (National Collaborative on Workforce and Disability for Youth, 2005)

According to the NLTS-2, employment rates vary considerably across disability categories for students with disabilities who were enrolled in special education. Youth with learning disabilities, emotional disturbances, other health impairments, or speech impairments are the most likely to be employed in a 1-year period (50% to 60%). In contrast, 15% of youth with autism, approximately one-fourth of youth with multiple disabilities, deaf-blindness, or orthopedic impairments, and about one-third of youth with mental retardation or visual impairments are employed in a 1-year period. Moreover, the 2000 Census revealed that the overall employment rate of Americans with disabilities of working age in 2000 was only around 56 percent, a number which is far below the national average.

The impending changes in our economy in conjunction with the aforementioned data on high school and college graduation rates underscore the need for our nation to continue to direct resources to address the complex and significant barriers to employment many youth with disabilities face in transitioning into the adult world. The research and technical assistance effort proposed herein will support this effort by increasing the capacity of multiple youth service delivery systems by expanding the knowledge base of existing effective practices for improving transition outcomes; identifying, investigating and validating models that promote systems change; and providing proactive support, training, and dissemination of other relevant useful information.

The technical assistance to be provided will build upon ODEP's prior research and technical assistance efforts which focused on promoting increased understanding that:

• Addressing the transition needs of youth with disabilities requires meaningful collaboration and coordination;

• Providing effective services to youth with disabilities in the context of general youth service delivery is not difficult because, as articulated in the Guideposts for Success, the vast majority of what they need, are the same things all youth need; and

• Providing effective transition services for all youth, which support positive youth development, requires viewing what youth need holistically.

The research and technical assistance also found that:

• Generic service providers may unknowingly already be serving significant numbers of youth with disabilities as they are overrepresented in all at-risk groups; and

• Generic youth serving delivery systems, such as programs supported by the WIA, bear a part of the responsibility of serving transitioning youth with disabilities.

3. Definitions

Definitions for purposes of this solicitation include:

• Youth with disabilities: Refers to individuals with disabilities who are ages 14 to 24.

• Individual Graduation/Learning Plan: Refers to a plan that emphasizes academic and career development for all students as early as middle school and continues throughout high school. The plans, currently being implemented by many states, assist students in setting post-secondary education and employment goals based on their academic, career, and personal interests, as well as their strengths and weaknesses.

II. Award Information

Estimated Available Funds: The full $1,700,000 for the initial 24 month period of performance will be awarded in 2007.

Period of Performance: 24 months from date of award with up to three (3) additional option years at approximately $1,000,000 per year, depending on performance, identified need, and the availability of future funding.

The U.S. Department of Labor (“DOL” or “Department”), Office of Disability Employment Policy (“ODEP”), announces the availability of up to $1,700,000 to fund a national technical assistance and research cooperative agreement.

Note: Selection of an organization as a Grantee does not constitute approval of the grant application as submitted. Before the actual grant is awarded, DOL may enter into negotiations about such items as program components, staffing and funding levels, and administrative systems in place to support grant implementation. If the negotiations do not result in a mutually acceptable submission, the Grant Officer reserves the right to terminate the negotiation and decline to fund the application.

Because ODEP plans to make this award in the form of a cooperative agreement, DOL will have substantial involvement in the administration of the agreement. Such DOL involvement will consist of:

(1) Approval of any sub-contract awarded by the grantee after the grant award;

(2) Participation in site visits to project areas;

(3) Providing advice and consultation to the Grantee on specific program criteria;

(4) Providing the Grantee(s) with technical and programmatic support, including training in DOL monitoring and evaluation systems, and standard procedures regarding DOL management of cooperative agreements;

(5) Reviewing, at reasonable times, all documents pertaining to the project, including status and technical progress reports, and financial reports. ODEP will provide the format for the reports;

(6) Discussing administrative and technical issues pertaining to the project;

(7) Approving all key personnel decisions, and sub-contractors or sub-awardees;

(8) Approving all fact sheets, training materials, press releases and publicity-related materials regarding the project;

(9) Approving all content for online resources developed through project activities, including clearing concepts for material production and final document production; and

(10) Drafting terms of reference for, and participating in project evaluations.

III. Eligibility Information

1. Eligible Applicants

Eligible applicants are consortia made up of a minimum of three (3) entities which may include a combination of any of the following: Public/private non-profits or for-profit organizations including faith-based organizations, and universities and colleges, with demonstrated appropriate experience and expertise in conducting research and providing technical assistance about issues important to increasing employment opportunities for people with disabilities. The expertise required should include, but not be limited to: Education and career planning for transitioning youth, including those with mental health needs; comprehensive transition services delivery; strategies for meeting employer demand and for systems change, professional development strategies for youth service providers; and personal assistance, transportation, health and other related employment support services. There must be a prime or lead member of the consortium who is responsible for overall grant management and serves as the fiscal agent. All applications must clearly identify the lead grant recipient and fiscal agent, as well as all other members of the consortium applying for the grant. In addition, the application must identify the relationship between all of the members of the consortium.

According to section 18 of the Lobbying Disclosure Act of 1995, an organization, as described in section 501(c)(4) of the Internal Revenue Code of 1986, that engages in lobbying activities will not be eligible for the receipt of Federal funds constituting an award, grant, or loan. See 2 U.S.C. 1611; 26 U.S.C. 501(c)(4). Funding restrictions apply. See Section IV(5).

2. Cost Sharing

Cost sharing, matching funds, and cost participation are not required under this SGA. However, leveraging of public and private resources to foster inclusive service delivery and achieve project sustainability is highly encouraged and included under evaluation criteria. See V(1)(b)(9).

3. Other Eligibility Requirements

Legal rules pertaining to inherently religious activities by organizations that receive Federal Financial Assistance:

• Neutral, non-religious criteria that neither favor nor disfavor religion will be employed in the selection of grant recipients and must be employed by grantees or in the selection of sub-awardees.

• The government is generally prohibited from providing direct financial assistance for inherently religious activities.¹

¹ In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a State or local government (also known as “indirect” or “block” grant assistance). The term “direct”' has the former meaning throughout this SGA.

In addition, no organization or individual investigator/program director may submit more than two separate applications.

IV. Application and Submission Information

1. Addresses To Request Application Package

This SGA contains all the information and forms needed to apply for this grant funding. Application announcements or forms will not be mailed. The Federal Register may be obtained from your nearest government office or library. In addition, a copy of this notice and the application requirements may be downloaded from ODEP's Web site at http://www.dol.gov/odep and at http://www.grants.gov. If additional copies of the standard forms are needed, they can also be downloaded from: http://www.whitehouse.gov/omb/grants/grants_forms.html. All mailed applications must be addressed to: Department of Labor, Procurement Services Center, Attention: Cassandra Mitchell, Reference SGA 07-09, 200 Constitution Avenue, NW., Room S-4307, Washington, DC 20210, Phone Number: (202) 693-4570 (this is not a toll-free number). Applicants are encouraged to apply online at http://www.grants.gov. Applicants submitting proposals online are requested to refrain from mailing a hard copy application as well. It is strongly recommended that applicants using http://www.grants.gov immediately initiate and complete the “Get Started” registration steps at http://www.grants.gov/GetStarted. These steps may take multiple days to complete, and this time should be factored into plans for electronic submission in order to avoid facing unexpected delays that could result in the rejection of an application. If submitting electronically through http://www.grants.gov it would be appreciated if the application submitted is saved as .doc, .pdf, or .txt files. Except as provided in Section IV.3., any application received after the deadline (hard copy or electronic) will be considered as non-responsive and will not be evaluated.

2. Content and Form of Application Submission

General Requirements: Applicants must submit one (1) paper copy with an original signature, and two (2) additional paper copies of the signed proposal. To aid with the review of applications, DOL also requires applicants to submit an electronic copy of their proposal's Sections II (Executive Summary) and III (Project Narrative) on disc or compact disc (CD) using Microsoft Word. The application (not to exceed 25 pages for Section III), must be double-spaced with standard one-inch margins (top, bottom, and sides) on 8½ × 11-inch paper, and must be presented on single-sided and numbered pages. A font size of at least twelve (12) pitch is required throughout. All text in the application narrative, including titles, headings, footnotes, quotations, and captions must be double-spaced (no more than three lines per vertical inch); and, if using a proportional computer font, must be in at least a 12-point font, and must have an average character density no greater than 18 characters per inch (if using a non-proportional font or a typewriter, must not be more than 12 characters per inch). Applications that fail to meet these requirements will be considered non-responsive.

Cooperative Agreement Mandatory Application Requirements

The three required sections of the application are titled below and described thereafter:

Section I—Project Financial Plan (No page limit).

Section II—Executive Summary—Project Synopsis (Not to exceed two (2) pages).

Section III—Project Narrative (Not to exceed 25 pages).

The mandatory requirements for each section are set forth below. Applications that fail to meet the stated mandatory requirements for each section will be considered non-responsive.

Section I. Project Financial Plan (Budget): The Project Financial Plan will not count against the application page limits. Section I of the application must include the following:

(1) Completed “SF-424—Application for Federal Assistance.”

Please note that, beginning October 1, 2003, all applicants for Federal grant and funding opportunities are required to include a Dun and Bradstreet (DUNS) number with their application. See OMB Notice of Final Policy Issuance, 68 FR 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet Number of the applicant should be entered in the “Organizational Unit” section of block 5 of the SF-424. (See Appendix A of this SGA for required form.)

(2) The SF-424 must contain the original signatures of the legal entity applying for cooperative agreement funding and two additional copies of the signed SF-424. The individual signing the SF-424 on behalf of the applicant must represent and be able to legally bind the responsible financial and administrative entity for a cooperative agreement should that application result in an award. Applicants shall indicate on the SF-424 the organization's Internal Revenue Service (IRS) status (e.g. 501(c)(3) organization), if applicable.

(3) Completed SF-424 A—Budget Information Form by line item for all costs required to implement the project design effectively. (See Appendix B of this SGA for required forms.)

(4) DOL Budget Narrative and Justification that provides sufficient information to support the reasonableness of the costs included in the budget in relation to the service strategy and planned outcomes, including continuous improvement activities.

The DOL Budget Narrative and Justification must describe all costs associated with implementing the project that are to be covered with cooperative agreement funds. The budget must support the travel and associated costs of sending representatives to both a post-award conference and periodic meetings with ODEP staff in Washington, DC (at least once per quarter), at a time and place to be determined. In addition to other administrative requirements identified in section VI(2) of this SGA, the applicant must comply with the “Uniform Administrative Requirements for Grants and Cooperative Agreements to State and Local Governments” (also known as OMB Circular A-102), codified at 29 CFR part 97, or “Grants and Agreements with Institutions of Higher Education, Hospitals, and Other Non-Profit Organizations” (also known as the “Common Rule”' or OMB Circular A-110), codified at 2 CFR part 215 and 29 CFR part 95.

In addition, the budget submitted for review by DOL must include, on a separate page, a detailed cost analysis of each line item. The costs listed in the detailed cost analysis must comply with the applicable OMB cost principles circulars, as identified in 29 CFR 95.27 and 29 CFR 97.22(b). Justification for administrative costs must be provided. Approval of a budget by DOL is not the same as the approval of actual costs. The applicant must also include the Assurances and Certifications Signature Page (Appendix C) and the Survey on Ensuring Equal Opportunity for Applicants (Appendix D).

Section II. Executive Summary—Project Synopsis: The Executive Summary is limited to no more than two single-spaced, single-sided pages on 8½ × 11-inch paper with standard margins throughout. The project synopsis must identify the following:

(1) The lead entity;

(2) The list of consortium members, as appropriate; and

(3) An overview of how the applicant will carry out the technical assistance and research activities described in Section 1 of this solicitation.

Section III. Project Narrative: The DOL Cooperative Agreement Project Narrative is limited to no more than twenty-five (25), 8½ ″ × ″ 11 pages, double-spaced with standard one-inch margins (top, bottom, and sides), and must be presented on single-sided, numbered pages.

Note: Any Appendices, including letters of cooperation and resumes are not included in this twenty-five-page limit.

Applications must include a Project Narrative that addresses the work proposed to be accomplished under the cooperative agreement, and the evaluation/selection criteria in Part V(1) that will be used by reviewers in evaluating the application.

Applicants must limit Section III to the equivalent of not more than 25 pages using the following standard. This page limit does not apply to Section I, the Project Financial Plan (Budget), Section II, the Executive Summary and the Appendices (the assurances and certifications, resumes, a bibliography or references, and the documentation of commitment/formal agreement/letters of support and other materials relevant to the application). A page is 8½ ″ × 11″ (on one side only) with one-inch margins (top, bottom, and sides). All text in the application narrative, including titles, headings, footnotes, quotations, and captions must be double-spaced (no more than three lines per vertical inch); and, if using a proportional computer font, use no smaller than a 12-point font, and an average character density no greater than 18 characters per inch (if using a non-proportional font or a typewriter, do not use more than 12 characters per inch).

The successful applicant will be a Technical Assistance and Research Consortium and will describe in their Project Narrative their innovative and comprehensive plan for accomplishing the technical assistance and research activities described in Part I(1), Description and Purpose, and Part I(2) Background.

The Project Narrative must:

(1) Identify members of the consortium (including the lead entity, a minimum of 3 consortium members is required) and provide documentation (such as letters of intent and memorandum of agreement which will be included in an Appendix) of a formal agreement of participation;

(2) Demonstrate each of the consortium members' relevant experience and expertise; and

(3) Identify how the applicant proposes to disseminate research findings and technical assistance products.

Each Project Narrative must include:

(1) A detailed 24 month management plan for project goals, objectives, and activities;

(2) A detailed 24 month timeline for project activities, including producing and submitting a final report;

(3) A detailed outline for an evaluation of the project (see Section V(1)(F) for more information);

(4) A description of procedures and approaches that will be used to provide ongoing communication, collaboration with, and input from ODEP's Project Officer on all grant-related activities.

(5) A detailed description of how the consortia will work with multiple Federal, State and local public and private entities to implement policy recommendations and strategies identified in carrying out project activities; and

(6) A detailed description of measures that will be taken to ensure that elements of the project's technical assistance model will be sustained following the completion of project activities.

The Project Narrative must describe the proposed staffing for the project and must identify and summarize the qualifications of the personnel who will carry it out. In addition, the evaluation criteria listed in Section V(1)(c) include consideration of the qualifications, including relevant education, training and experience of key project personnel, as well as the qualifications, including relevant training and experience, of project consultants or subcontractors. Resumes must be included in the appendices. Key personnel include: Principle Investigator, Project Director, Project Coordinator, Project Manager, Research Analyst, and any other individual playing a substantial role in the project. Minimum qualifications should be commensurate with the role identified in the application. In addition, the applicant must specify in the application, the percentages of time to be dedicated by each key person on the project.

For each staff person named in the application, please provide documentation of all internal and external time commitments. In instances where a staff person is committed on a federally supported project, please provide the project name, Federal office, program title, the project Federal award number, and the amount of committed time by each project year. This information (e.g., Staff: Jane Doe; Project Name: Succeeding in the General Curriculum; Federal office: Office of Special Education Programs; Program title: Field Initiated Research; Award number: H324C980624; Time commitments: Year 1-30%; Year 2-25% and Year 3-40%) can be provided as an appendix to the application.

In general, ODEP will not reduce time commitments on currently funded grants from the time proposed in the original application. Therefore, we will not consider for funding any application where key staff are bid above a time commitment level that staff have available to bid. Further, the time commitments stated in newly submitted applications will not be negotiated down to permit the applicant to receive a new grant award.

The Project Narrative should also describe how the applicant plans to comply with the employment discrimination and equal employment opportunity requirements of the various laws listed in the assurances section.

3. Submission Dates, Times and Addresses

Applications will be accepted commencing May 11, 2007. The closing date for receipt of applications by DOL under this announcement is June 25, 2007.

Applications, including those hand-delivered, must be received by 4:45 p.m. (EST) on the closing date at the address specified below. No exceptions to the mailing and hand-delivery conditions set forth in this notice will be granted. Applications that do not meet the conditions set forth in this notice will be considered non-responsive.

Applications must be mailed or hand-delivered to: U.S. Department of Labor, Procurement Services Center, Attention: Cassandra Mitchell, Reference SGA 07-09, Room S-4307, 200 Constitution Avenue, NW., Washington, DC 20210. Applications sent by e-mail or telefascimile (FAX) will not be accepted.

Hand-Delivered Proposals: It is preferred that applications be mailed at least five (5) days prior to the closing date to ensure timely receipt. Hand-delivered applications will be considered for funding, but must be received by the above specified date and time. Overnight or express delivery from carriers other than the U.S. Postal Service will be considered hand-delivered applications. Failure to adhere to the above instructions will serve as a basis for a determination of non-responsiveness.

Applicants are advised that mail in the Washington DC. area may be delayed due to mail decontamination procedures and may wish to take this information into consideration when preparing to meet the application deadline.

Late Applications: Any application received by the designated office after the exact date and time specified will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been postmarked by the 15th of that month); or (c) was sent by the U.S. Postal Service Express Mail Next Day Service to addressee not later than 5 p.m. at the place of mailing two (2) working days prior to the date specified for receipt of applications. The term “working days” excludes weekends and Federal holidays. “Postmarked” means a printed, stamped, or otherwise placed impression (exclusive of a postage meter machine impression) that is readily identifiable without further action as having been supplied or affixed on the date of mailing by an employee of the U.S. Postal Service.

Withdrawal of Applications: An application that is timely submitted may be withdrawn by written notice or telegram (including mailgram) at any time before an award is made. Applications may be withdrawn in person by the applicant or by an authorized representative thereof, if the representative's identity is made known and the representative signs a receipt for the proposal.

4. Intergovernmental Review

This funding opportunity is not subject to Executive Order 12372, “Intergovernmental Review of Federal Programs.”

5. Funding Restrictions

(a) Funding Levels: The total funding available for this solicitation is $1,700,000. The Department of Labor reserves the right to negotiate the amounts to be awarded under this competition. Please be advised that requests exceeding the maximum stated amount will be considered non-responsive. Additionally, there will be no reimbursement of pre-award costs.

(b) Period of Performance: The period of performance will be for 24 months from the date of the award unless modified. It is expected that the successful applicant will begin program operations under this solicitation immediately upon receiving the “Notice of Award.”

(c) Option Year Funding: Up to three (3) additional option years may be available at approximately $1,000,000 per year, depending on performance, identified need and the availability of future funding.

(d) Indirect Charges: If indirect charges are claimed in the proposed budget, the recipient must provide on a separate sheet, the following information:

(1) Name and address of cognizant Federal audit agency;

(2) Name, address and phone number (including area code) of the Government auditor;

(3) Documentation from the cognizant agency indicating:

(a) Current indirect cost rate and the base against which the rate should be applied;

(b) Effective period (dates) for the rate; and

(c) Date last rate was computed and negotiated.

(4) If no government audit agency computed and authorized the rate claimed, a proposed rate with justification may be submitted providing a brief explanation of computation, who computed the rate and the date of the computation. Successful applicants will be required to negotiate an acceptable and allowable rate within 90 days of grant award with the appropriate DOL Regional Office of Cost Determination or with the applicant's cognizant agency for indirect cost rates (See Office of Management and Budget Web site at http://www.whitehouse.gov/omb/grants/attach.html). The recipient shall call the Office of Cost Determination at 202-693-4100 for the initial contact.

However, applications claiming an indirect cost rate greater than 15% will not be considered.

V. Application Review Information

1. Evaluation Criteria

A technical panel will review grant applications against the criteria listed below, on the basis of the maximum points indicated.

(a) Significance of the Proposed Project (10 points)

In determining the significance of the proposed research, the Department will consider the following factors:

1. The potential contribution of the proposed project to increase knowledge or understanding of problems, issues, or effective strategies for providing comprehensive transition services and supports to youth with disabilities;

2. The likelihood that the proposed project will result in systems change or improvement;

3. The extent to which the proposed project is likely to build capacity to provide, improve, or expand services that address the needs of the target population as they relate to employment;

4. The likely utility of the products (such as information, materials, processes, or techniques) that will result from the proposed project, including the potential for their being used effectively in a variety of other settings;

5. The importance or magnitude of the results or outcomes likely to be attained by the proposed project; and

6. The extent to which the proposed project builds upon prior work done by ODEP and its partners around youth in transition, including the Guideposts for Success and related policies and practices.

(b) Project Design (25 points)

In evaluating the quality of the proposed project design, the Department will consider the following factors:

1. The extent to which the goals, objectives, and outcomes to be achieved by the proposed project are clearly specified and measurable;

2. The extent to which the design of the proposed project includes a high-quality review of the relevant literature, a high-quality plan for project implementation, and the use of appropriate methodological tools to ensure successful achievement of project objectives;

3. The extent to which the proposed project will effectively contribute to increased knowledge and understanding by building upon current theory, research, and effective practices;

4. The extent to which the proposed project will be coordinated with similar or related Federal technical assistance, research, training, and information efforts;

5. The extent to which the proposed project encourages involvement of youth with disabilities and their families, relevant experts, and organizations;

6. The extent to which performance feedback and continuous improvement are integral to the design of the proposed project;

7. The extent to which the services to be provided by the proposed project are appropriate to the needs of the intended recipients or beneficiaries of those services;

8. The adequacy of the documentation submitted in support of the proposed project to demonstrate the commitment of each entity or individual included in project implementation;

9. The extent to which the proposed project leverages other public and private resources to foster inclusive service delivery and sustainability and provides other concrete evidence of sustainability, including appropriate letters of support included in the appendices; and

10. The extent to which the design of the proposed project includes a comprehensive strategy for providing technical assistance and conducting research to identify and evaluate systems models that effectively integrate services for students with disabilities into individual learning/graduation plans and ensure that they benefit from these plans to the same extent as their peers without disabilities.

(c) Organizational Capacity and Quality of Key Personnel (25 points)

Applications will be evaluated based on the extent to which the applicant demonstrates organizational capacity and quality of key personnel to implement the proposed project, including:

1. Demonstrated experience with similar projects providing technical assistance and conducting research relating to youth in transition;

2. Qualifications and experience of the applicant's key personnel and consultants;

3. Commitment to developing and sustaining work across key stakeholders;

4. Experience and commitment of any proposed consultants or subcontractors; and

5. Appropriateness of the organization's structure to carry out the project.

(d) Budget and Resource Capacity (10 points)

In evaluating the capacity of the applicant to carry out the proposed project, ODEP will consider the following factors:

1. The extent to which the budget is adequate to support the proposed project; and

2. The extent to which the anticipated costs are reasonable in relation to the objectives, design, and potential significance of the proposed project.

(e) Quality of the Management Plan (15 points)

In evaluating the quality of the management plan for the proposed project, ODEP will consider the following factors:

1. The extent to which the management plan for project implementation appears likely to achieve the objectives of the proposed project on time and within budget, and includes clearly defined staff responsibilities, time allocation to project activities, time lines, milestones for accomplishing project tasks, project deliverables and information on adequacy of other resources necessary for project implementation;

2. The extent to which the management plan appears likely to result in sustainable activities beyond the period of direct Federal investment;

3. The adequacy of mechanisms for ensuring high-quality products and services relating to the scope of work for the proposed project; and

4. The extent to which the time commitments of the project director and/or principal investigator and other key project personnel are appropriate and adequate to meet the objectives of the proposed project.

(f). Quality of the Project Evaluation (15 points)

In evaluating the quality of the project's evaluation design, ODEP will consider the following factors:

1. The extent to which the methods of evaluation are thorough, feasible, and appropriate to the goals, objectives, context, and outcomes of the proposed project;

2. The extent to which the design of the evaluation includes the use of objective performance measures and methods that will clearly document the project's intended outputs and outcomes and will produce measurable quantitative and qualitative data;

3. The extent to which the evaluation will provide Federal, State and local government entities with useful information about transition and systems change models suitable for replication or testing in other settings; and

4. The extent to which the methods of evaluation provide measures that will inform ODEP's annual performance goals and measures and ODEP's long-term strategic goals.

2. Review and Selection Process

A technical review panel will objectively rate each complete application against the criteria described in this SGA. The panel recommendations to the Grant Officer, including any point scores, are advisory in nature. The Grant Officer may elect to award grants either with or without discussion with the applicant. In situations where no discussion occurs, an award will be based on the signed SF-424 form (see Appendix A), which constitutes a binding offer.

The Grant Officer may consider the availability of funds and any information that is available and will make final award decisions based on what is most advantageous to the government, considering factors such as the advisory recommendations from the grant technical evaluation panel and the geographic distribution of Federally funded grants.

3. Anticipated Announcement and Award Dates

Announcement of this award is expected to occur within 30 days of award. The cooperative agreement will be awarded by no later than September 28, 2007.

VI. Award Administration Information

1. Award Notices

The Notice of Award signed by the Grant Officer is the authorizing document and will be provided through postal mail and/or by electronic means to the authorized representative listed on the SF-424 Grant Application. Notice that an organization has been selected as a grant recipient does not constitute final approval of the grant application as submitted. Before the actual grant award, the Grant Officer and/or the Grant Officer's Technical Representative may enter into negotiations concerning such items as program components, funding levels, and administrative systems. If the negotiations do not result in an acceptable submittal, the Grant Officer reserves the right to terminate the negotiation and decline to fund the proposal.

2. Administrative and National Policy Requirements

All grantees, including faith-based organizations, will be subject to applicable Federal laws (including provisions of appropriations law), regulations, and the applicable Office of Management and Budget (OMB) Circulars. The grant awarded under this SGA will be subject to the following administrative standards and provisions, and requirements applicable to particular entities. The applicant must include assurances and certifications that it will comply with these laws in its grant application. The assurances and certifications are attached as Appendix C.

a. Regulations

29 CFR parts 31 and 32—Nondiscrimination in Federally Assisted Programs of the Department of Labor (respectively, effectuation of Title VI of Civil Rights Act of 1964, and on the Basis of Handicap in Programs and Activities Receiving or Benefiting from Federal Financial Assistance).

29 CFR part 35—Nondiscrimination on the Basis of Age in Programs or Activities receiving Federal Financial Assistance from the Department of Labor.

29 CFR part 36—Nondiscrimination on the Basis of Sex in Education Programs or Activities Receiving Federal Financial Assistance.

29 CFR part 93—New Restrictions on Lobbying.

29 CFR part 95—Uniform Administrative Requirements for Grants and Agreements with Institutions of Higher Education, Hospitals and Other Non-Profit Organizations, and with Commercial Organizations, Foreign Governments, Organizations Under the Jurisdiction of Foreign Governments and International Organizations.

29 CFR part 96—Federal Standards for Audit of Federally Funded Grants, Contracts and Agreements.

29 CFR part 97—Uniform Administrative Regulations for Grants to States, Local Governments or Tribes.

29 CFR part 98—Federal Standards for Government wide Debarment and Suspension (Nonprocurement) and Government wide Requirements for Drug-Free Workplace (Grants).

29 CFR part 99—Federal Standards for Audits of States, Local Governments, and Non-Profit Organizations.

29 CFR part 2—General Participation in Department of Labor Programs by Faith-Based and Community Organizations; Equal Treatment of All Department of Labor Program Participants and Beneficiaries.

Applicable cost principles under OMB Circulars A-21, A-87, A-122, or 48 CFR part 31.

b. Travel

Any travel undertaken in performance of this cooperative agreement shall be subject to and in strict accordance with Federal travel regulations.

c. Acknowledgement of DOL Funding

Printed Materials: In all circumstances, the following shall be displayed on printed materials prepared by the grantee while in receipt of DOL grant funding: “Preparation of this item was funded by the United States Department of Labor under Grant No. [insert the appropriate Grant number].”

All printed materials must also include the following notice: “This document does not necessarily reflect the views or policies of the U.S. Department of Labor, nor does mention of trade names, commercial products, or organizations imply endorsement by the U.S. Government.”

Public reference to grant: When issuing statements, press releases, requests for proposals, bid solicitations, and other documents describing projects or programs funded in whole or in part with Federal money, all grantees receiving Federal funds must clearly state:

• The percentage of the total costs of the program or project, which will be financed with Federal money;

• The dollar amount of Federal financial assistance for the project or program; and

• The percentage and dollar amount of the total costs of the project or program that will be financed by non-governmental sources.

Use of DOL and ODEP Logo: In consultation with DOL/ODEP, the Grantee must acknowledge DOL's role as described. The DOL and/or ODEP logo may be applied to DOL-funded material prepared for world-wide distribution, including posters, videos, pamphlets, research documents, national survey results, impact evaluations, best practice reports, and other publications of global interest. The Grantee must consult with DOL on whether the logo may be used on any such items prior to final draft or final preparation for distribution. In no event shall the DOL and/or ODEP logo be placed on any item until DOL has given the grantee written permission to use the logo on the item.

All documents must include the following notice: “This document does not necessarily reflect the views or policies of the U.S. Department of Labor, nor does mention of trade names, commercial products, or organizations imply endorsement by the U.S. Government.”

d. Intellectual Property

Please be advised that DOL will reserve a royalty-free, nonexclusive, and irrevocable license to reproduce, publish, distribute, publicly display and perform, and create derivative works from, and to authorize others to use, for Federal Government purposes:

(a) Any work developed under a grant, subgrant, or contract under a grant or subgrant; and

(b) Any rights to which a grantee, subgrantee or a contractor purchases ownership with grant support.

In addition, the grantee will agree to notify DOL of any pre-existing copyrighted materials it intends to incorporate into materials developed under the grant, and, prior to such incorporation, the grantee will agree that it will acquire, on behalf of DOL, any necessary licenses to allow DOL to exercise the rights described in the paragraph above.

e. Approval of Key Personnel and Subcontractors

The recipient shall notify the Grant Officer at least 14 calendar days in advance if any key personnel are to be removed or diverted from the cooperative agreement, shall supply written justification as part of this notice as to why these persons are to be removed or diverted, shall provide the names(s) of the proposed substitute or replacement, and shall include information on each new individual's qualifications such as education and work experience.

VII. Reporting and Monitoring

ODEP is responsible for ensuring effective implementation of this cooperative agreement, in accordance with the provisions of this announcement and the terms of the cooperative agreement award document. Applicants should assume that ODEP staff will conduct on-site project reviews periodically. Reviews will focus on timely project implementation, performance in meeting the cooperative agreement's objectives, tasks and responsibilities, expenditures of cooperative agreement funds on allowable activities, and administration of project activities. Projects may be subject to other additional reviews, at the discretion of the ODEP.

The selected applicant must submit on a quarterly basis, beginning ninety (90) days from the award of the grant, financial and activity reports under this program as prescribed by OMB Circular A-110, codified at 2 CFR part 215 and 29 CFR part 95. Specifically the following reports will be required:

1. Quarterly report: The quarterly report is estimated to take five (5) hours to complete. The form for the quarterly report will be provided by ODEP. The Department will work with the grantee to help refine the requirements of the report, which, among other things, will include measures of ongoing analysis for continuous improvement. This report will be filed using an on-line reporting system. The form will be submitted within thirty (30) days of the close of the quarter.

2. Standard Form 269, Financial Status Report Form: This form is to be completed and submitted on a quarterly basis using the on-line electronic reporting system unless ODEP provides different instructions.

3. Final Project Report: The Final Project Report is to include an assessment of project performance and outcomes achieved. It is estimated that this report will take twenty (20) hours to complete. This report will be submitted in hard copy and on electronic disk using a format and following instructions, to be provided by ODEP. A draft of the final report is due to ODEP sixty (60) days before the end of the period of performance of the cooperative agreement. The final report is due to ODEP and the DOL Grants Office ten (10) days before the end of the period of performance of the cooperative agreement.

The Department will arrange for an evaluation of the outcomes, impacts, accomplishments, and benefits of each funded project. The grantee must agree to cooperate with this evaluation and must make available records on all parts of project activity, including available data on service delivery models being studied, and provide access to personnel, as specified by the evaluator(s), under the direction of ODEP. This evaluation is separate from the ongoing evaluation for continuous improvement required of the grantee for project implementation.

Technical assistance efforts will be coordinated with ODEP's other technical assistance efforts, including, if applicable, ODEP's National Center on Workforce and Disability for Youth (NCWD/Y). The Grantee must also agree to work with ODEP in its various technical assistance efforts in order to freely share with others what is learned about transitioning youth with disabilities. The grantee must agree to collaborate with other research institutes, centers, studies, and evaluations that are supported by the DOL and other relevant Federal agencies, as appropriate. Finally, the grantees must agree to actively utilize the programs sponsored by the ODEP, including the Job Accommodation Network (http://www.jan.wvu.edu), and the Employer Assistance and Recruiting Network (http://www.earnworks.com).

The successful applicant will be required to prepare a strategic plan for achieving the goals of the cooperative agreement for the initial 24 month period of performance and submit it to ODEP within 45 days of award for approval.

VIII. Agency Contacts

Any questions regarding this SGA should be directed to Cassandra Mitchell, e-mail address: mitchell.cassandra@dol.gov, tel: 202-693-4570 (note that this is not a toll-free number). To obtain further information about the Office of Disability Employment Policy of the U.S. Department of Labor, visit the DOL Web site of the Office of Disability Employment Policy at http://www.dol.gov/odep.

IX. Appendices

The appendices are as follows:

Appendix A. Application for Federal Assistance, Form SF-424.

Appendix B. Budget Information Sheet, Form SF-424A.

Appendix C. Assurances and Certifications Signature Page.

(Appendices D and E are not applicable).

Appendix F. Survey on Ensuring Equal Opportunity for Applicants.

Detailed information and document locations:

• Appendix A. Application for Federal Assistance, Form SF-424 (OMB No. 4040-0004).

• Appendix B. Budget Information Sheet, Form SF-424A (OMB No. 0348-0044). Both forms SF-424 and 424A can be obtained at the following Web address: http://apply.grants.gov/agency/FormLinks?family=7.

• Appendix F. Survey on Ensuring Equal Opportunity for Applicants (OMB No. 1890-0014).

• The Survey on Ensuring Equal Opportunity for Applicants form can be obtained at the following Web address: http://www.ed.gov/fund/grant/apply/appforms/surveyeo.pdf.

(If you are viewing this in an electronic format and are receiving “page not found”, please cut and paste the URL into your browser window)

Appendix C. Assurances and Certifications Signature Page.

Certifications and Assurances

Assurances and Certifications Signature Page

The Department of Labor will not award a grant or agreement where the grantee/recipient has failed to accept the assurances and certifications contained in this section. By signing and returning this signature page, the grantee/recipient is providing the certifications set forth below:

A. Certification Regarding Lobbying, Debarment, Suspension, Other Responsibility Matters—Primary Covered Transactions and Certifications Regarding Drug-Free/Tobacco-Free Workplace.

B. Certification of Release of Information,

C. Assurances—Non-Construction Programs,

D. Applicant is not a 501(c)(4) organization.

Applicant Name and Legal Address:

If there is any reason why one of the assurances or certifications listed cannot be signed, please explain. Applicant need only submit and return this signature page with the grant application. All other instruction shall be kept on file by the applicant.

Signature of Authorized Certifying Official

Title

Applicant Organization

Date Submitted

Please Note: This signature page and any pertinent attachments which may be required by these assurances and certifications shall be attached to the applicant's cost proposal.

Signed at Washington, DC, this 7th day of May 2007.
Lisa Harvey,
Grant Officer.

[FR Doc. E7-9117 Filed 5-10-07; 8:45 am]

BILLING CODE 4510-FK-P